DEPARTMENT OF COMMERCE

Foreign-Trade Zones Board

[Docket 18-2009]

Proposed Foreign-Trade Zone - Kern County, California, Correction

The Federal Register notice published on May 4, 2009 (74 FR 20459) describing the application by the County of Kern Department of Airports to establish a general-purpose foreign-trade zone at sites in Kern County, California is corrected as follows:

In paragraph 2, line 19, the correct acreage for Site 2 is 247 acres and for line 24, the correct site is Site 23.

Dated: June 3, 2009.
Andrew McGilvray,
Executive Secretary.

[FR Doc. E9-13616 Filed 6-9-04; 8:45 am]

BILLING CODE 3510-DS-S